DEPARTMENT OF JUSTICE

Justice Programs Office

[OMB Number 1121-NEW]

Agency Information Collection Activities; Proposed eCollection eComments Requested; New collection; Fourth National Juvenile Online Victimization Study (N-JOV4)

AGENCY: Office of Justice Programs, Department of Justice.

ACTION: 30-day notice.

SUMMARY: The Office of Justice Programs, Department of Justice (DOJ), will be submitting the following information collection request to the Office of Management and Budget (OMB) for review and approval in accordance with the Paperwork Reduction Act of 1995.

DATES: Comments are encouraged and will be accepted for 30 days until April 5, 2021.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Written comments and suggestions from the public and affected agencies concerning the proposed collection of information are encouraged. Your comments should address one or more of the following four points:

—Evaluate whether the proposed collection of information is necessary for the proper performance of the functions of the agency, including whether the information shall have practical utility;

—Evaluate whether the accuracy of the agency's estimate of the burden on the proposed collection of information, including the validity of the methodology and assumptions that were used;

—Evaluate whether and if so how the quality, utility, and clarity of the information collected can be enhanced; and

—Minimize the burden of the collection of information on those who are to respond, including use of appropriate automated, electronic, mechanical, or other technological collection techniques or other forms of information technology, e.g., permitting electronic submission of responses.

Overview of this information collection:

1. Type of Information Collection: New collection.

2. The Title of the Form/Collection: Fourth National Juvenile Online Victimization Study (N-JOV4).

3. The agency form number, if any, and the applicable component of the Department sponsoring the collection: Not applicable (new collection).

4. Affected public who will be asked or required to respond, as well as a brief abstract:

State, county, and local law enforcement agencies (LEAs). Abstract: The Fourth National Juvenile Online Victimization Study (N-JOV4) will include a pilot study to test data collection instruments and methods and a full survey administration designed to provide national estimates of technology facilitated sex crimes against children as well as details about victim, offenders, and investigations. The National Institute of Justice (NIJ) will use the information gathered in the national study in published reports and statistics. The reports will be made available to the U.S. Congress, practitioners, researchers, students, the media, and the general public via the NIJ website.

5. An estimate of the total number of respondents and the amount of time estimated for an average respondent to respond: Burden Hours for N-JOV4 Pilot Study

NIJ expects the 25 law enforcement agencies to spend an average of 15 minutes completing the mail screener survey, including the time to read the accompanying letter, identify eligible cases, consider additional search strategies as requested in the cover letter, and answer the questions (25 × 15 minutes = 6.25 hours). NIJ expects the 25 chiefs/department heads/Commanders to spend 20 minutes completing the telephone debriefing about the mail screener (25 × 20 minutes = 8.33 hours). NIJ expects the five internet Crimes Against Children (ICAC) investigators who are asked to complete telephone interviews on specific cases identified in the mail screener to spend an average of 60 minutes of their time which includes the debriefing about the interview (5 × 60 minutes = 5 hours). The total amount of time for the N-JOV4 pilot is 19.58 hours.

Burden Hours for N-JOV4 National Study

A total of 2,689 local, county, state and federal law enforcement agencies are included in the national stratified sample. All of these agencies except the three federal agencies will receive a mail screener, resulting a total of 2,686 non-federal agencies. NIJ estimates that the time to complete the screener will be five minutes for agencies with no eligible cases and 10 minutes for agencies with eligible cases, including the time to read the accompanying letter, identify eligible cases, and answer the questions. NIJ estimates that 1,343 (50%) of the law enforcement agencies will complete the screener by mail. Of these, 35% are expected to have at least one case; these agencies will take approximately 10 minutes each to complete the mail screener (470 × 10 = 78.33 hours). The remaining agencies who complete the screener survey by mail are expected to take approximately 5 minutes each to complete the mail screener (873 × 5 = 72.75 hours). This equals a total of 151.08 hours for completing the screener by mail. NIJ estimates that 36 percent of the law enforcement agencies will complete the screener by telephone. NIJ estimates that, of these 967 agencies who complete the screener by telephone, 338 will have a case (338 × 10 = 56.33 hours) and 629 will have no cases (629 × 5 = 52.42 hours) for a total of 108.75 hours for completing the mail screener by phone. Based on power analysis calculations, case-level telephone interviews will be completed for a sample of 2,000 eligible cases identified in the mail screener. NIJ estimates that the telephone surveys will take an average of 45 minutes, including 5 minutes for introductions and study details, 3 minutes for data retrieval, and 37 minutes for study questions (2,000 × 45 = 1,500 hours). The total amount of time for the N-JOV4 national study is 1,759.83 hours.

6. An estimate of the total public burden (in hours) associated with the collection: There are an estimated 1,779.41 total burden hours associated with the N-JOV4 pilot study and the national study.

If additional information is required contact: Melody Braswell, Department Clearance Officer, United States Department of Justice, Justice Management Division, Policy and Planning Staff, Two Constitution Square, 145 N Street NE, 3E.405A, Washington, DC 20530.

Dated: March 2, 2021.
Melody Braswell,
Department Clearance Officer for PRA, U.S. Department of Justice.

[FR Doc. 2021-04611 Filed 3-4-21; 8:45 am]

BILLING CODE 4410-18-P